DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 13, 2003.

Interested persons are invited to submit written comments regarding the subject matter of the investigations to the Director, Division of Trade Adjustment Assistance, at the address shown below, not later than June 13, 2003.

The petitions filed in this case are available for inspection at the Office of the Director, Division of Trade Adjustment Assistance, Employment and Training Administration, U.S. Department of Labor, Room C-5311, 200 Constitution Avenue, NW., Washington, DC 20210.

Signed in Washington, DC, this 19th day of May, 2003.
Timothy Sullivan,
Director, Division of Trade Adjustment Assistance.

Appendix
[Petitions instituted between 05/05/2003 and 05/09/2003.]
TA-W | Subject firm (petitioners) | Location | Date of institution | Date of petition
51,677 | McKittrick and Assoc., Inc. (Comp) | Charlotte, NC | 05/05/2003 | 04/28/2003
51,678 | D and W International, Inc. (Comp) | Charlotte, NC | 05/05/2003 | 04/28/2003
51,679 | Progress Lighting Company (IBEW) | Philadelphia, PA | 05/05/2003 | 04/10/2003
51,680 | Siemen Information and Communications (FL) | Boca Raton, FL | 05/05/2003 | 04/25/2003
51,681 | Sony Ericsson Mobile Communications (Wkrs) | RTP, NC | 05/05/2003 | 05/02/2003
51,682 | Little Tikes Commercial (Wkrs) | Farmington, MO | 05/05/2003 | 04/22/2003
51,683 | Quadco Industrial Service (OR) | Tigard, OR | 05/05/2003 | 04/29/2003
51,684 | Arimon Technologies, Inc. (Comp) | Manitowoc, WI | 05/05/2003 | 05/02/2003
51,685 | ABB, Inc. (OR) | The Dalles, OR | 05/06/2003 | 05/06/2003
51,686 | Coats North America (Comp) | Toccoa, GA | 05/06/2003 | 05/05/2003
51,687 | Oshkosh B'Gosh Corp. (Wkrs) | Oshkosh, WI | 05/06/2003 | 05/05/2003
51,687A | Oshkosh B'Gosh, Inc. (Wrks) | Oshkosh, WI | 05/06/2003 | 05/05/2003
51,687B | Oshkosh B'Gosh, Inc. (Wrks) | Oshkosh, WI | 05/06/2003 | 05/05/2003
51,688 | Nortech Systems (Wkrs) | Bemidji, MN | 05/06/2003 | 03/13/2003
51,689 | Horace Mann Service Company (Wkrs) | Springfield, IL | 05/06/2003 | 05/05/2003
51,690 | Tyson Foods, Inc. (Comp) | Berlin, MD | 05/06/2003 | 05/05/2003
51,691 | Coastal Apparel LLC (Comp) | Tabor City, NC | 05/06/2003 | 05/06/2003
51,692 | Dana Corporation (Comp) | Pelahatchie, MS | 05/06/2003 | 05/06/2003
51,693 | International Comfort Products (IBB) | La Vergne, TN | 05/06/2003 | 04/25/2003
51,694 | Component Concepts, Inc. (Comp) | Thomasville, NC | 05/06/2003 | 05/06/2003
51,695 | Fishing Vessel (F/V) Vagabond Queen (Comp) | Hoonah, AK | 05/06/2003 | 05/02/2003
51,696 | Sanmina-SCI (Comp) | Lewisburg, PA | 05/07/2003 | 05/07/2003
51,697 | Lyall Technologies, Inc. (Comp) | Murray, IA | 05/07/2003 | 05/05/2003
51,698 | C and B, LLC (Wkrs) | Tennille, GA | 05/07/2003 | 05/07/2003
51,699 | Meadwestvaco (GCIU) | Cleveland, TN | 05/07/2003 | 05/07/2003
51,700 | Boeing (Wrks) | Salt Lake City, UT | 05/07/2003 | 05/05/2003
51,701 | Kelly's Kids (Comp) | Natchez, MS | 05/07/2003 | 04/30/2003
51,702 | Marion County Shirt Company (AR) | Springfield, MO | 05/07/2003 | 05/05/2003
51,703 | Meadwestvaco (PACE) | Escanab, MI | 05/07/2003 | 04/28/2003
51,704 | T. Raymond Forest Products, Inc. (Wkrs) | Lee, ME | 05/07/2003 | 04/23/2003
51,705 | Utica Cutlery Co. (Comp) | Utica, NY | 05/07/2003 | 04/28/2003
51,706 | Midland Steel Products (Wrks) | Cleveland, OH | 05/07/2003 | 04/30/2003
51,707 | Lucent Technologies (Wkrs) | Spokane, WA | 05/07/2003 | 05/06/2003
51,708 | Bethlehem Steel Corp. (Wkrs) | Bethlehem, PA | 05/07/2003 | 05/06/2003
51,709 | Nitrous Oxide Systems, Inc. (Comp) | Bowling Green, KY | 05/07/2003 | 04/15/2003
51,710 | Rayovac Corporation (Comp) | Fennimore, WI | 05/07/2003 | 05/06/2003
51,711 | Northern Southwest Alaska (Comp) | Sitka, AK | 05/07/2003 | 05/01/2003
51,712 | Fishing Vessel (F/V) Miss Molly (Comp) | Dillingham, AK | 05/07/2003 | 05/06/2003
51,713 | Markwins Beauty Products (UFCW) | Brooklyn, NY | 05/08/2003 | 04/10/2003
51,714 | A&M Thermometer Corp. (Comp) | Asheville, NC | 05/08/2003 | 05/07/2003
51,715 | Johnson Hosiery Mills, Inc. (Comp) | Hickory, NC | 05/08/2003 | 05/02/2003
51,716 | FCI Automotive (Comp) | Brecksville, OH | 05/08/2003 | 04/27/2003
51,717 | Sandvik Materials Technology (Comp) | Scranton, PA | 05/08/2003 | 05/07/2003
51,718 | LeCroy (OR) | Beaverton, OR | 05/08/2003 | 05/07/2003
51,719 | Farmer's Insurance (Wkrs) | Los Angeles, CA | 05/08/2003 | 05/07/2003
51,720 | Kidder, Inc. (Wkrs) | Agawam, MA | 05/08/2003 | 04/22/2003
51,721 | Fishing Vessel (F/V) Towego (Wkrs) | Ketchikan, AK | 05/08/2003 | 05/05/2003
51,722 | Fishing Vessel (F/V) Lisa III (Comp) | Aleknagik, AK | 05/08/2003 | 05/06/2003
51,723 | F/V Sylvia Star (Comp) | Kodiak, AK | 05/08/2003 | 05/01/2003
51,724 | Moonlight Harbor Fisheries (Comp) | Kodiak, AK | 05/08/2003 | 04/24/2003
51,725 | Fishing Vessel (F/V) Glacier Point (Comp) | Haines, AK | 05/08/2003 | 05/01/2003
51,726 | Columbia Falls Aluminum Co. (AWTC) | Columbia Falls, MT | 05/09/2003 | 05/08/2003
51,727 | Harriet and Henderson Yarns, Inc. (Comp) | Henderson, NC | 05/09/2003 | 03/10/2003
51,728 | Inland Paperboard and Packaging Inc. (Comp) | Elizabethton, TN | 05/09/2003 | 05/08/2003
51,729 | Fun-Tees, Inc. (Comp) | Concord, NC | 05/09/2003 | 05/06/2003
51,730 | Bethlehem Lukens Plate (USWA) | Coatesville, PA | 05/09/2003 | 05/07/2003
51,731 | Fishing Vessel (F/V) Verna-C (Comp) | Sitka, AK | 05/09/2003 | 05/08/2003

[FR Doc. 03-13803 Filed 6-2-03; 8:45 am]

BILLING CODE 4510-30-M